DEPARTMENT OF TRANSPORTATION

Federal Highway Administration

Notice To Rescind Notice of Intent To Prepare Environmental Impact Statement in California

AGENCY: Federal Highway Administration (FHWA), Department of Transportation (DOT).

ACTION: Notice to Rescind Notice of Intent to Prepare an Environmental Impact Statement (EIS).

SUMMARY: The FHWA, on behalf of the California Department of Transportation (Caltrans), is issuing this notice to advise the public that it is rescinding its Notice of Intent (NOI), originally published in the Federal Register on November 7, 2019, to prepare a Draft Environmental Impact Statement for the South County Traffic Relief Effort project, located in Orange and San Diego Counties, California.

FOR FURTHER INFORMATION CONTACT: For Caltrans: Smita Deshpande, Senior Environmental Planner, Caltrans District 12, 1750 East Fourth Street, Suite 100, Santa Ana, California 92705, weekdays 8:00 a.m. to 5:00 p.m., telephone (657) 328-6151, email smita.desphande@dot.ca.gov. For FHWA: David Tedrick at (916) 498-5024 or email david.tedrick@dot.gov.

SUPPLEMENTARY INFORMATION: Effective July 1, 2007, the FHWA assigned, and the Caltrans assumed, environmental responsibilities for this project pursuant to 23 U.S.C. 327. Caltrans as the assigned National Environmental Policy Act (NEPA) agency, in cooperation with the Foothill/Eastern Transportation Corridor Agency (F/ETCA), published an NOI on November 7, 2019, to prepare an EIS on a proposal for a highway improvement project in Orange County and San Diego County, California. The proposed improvements intended to address north-south regional mobility and accommodation of travel demand included the extension of the tolled State Route (SR) 241 lanes to Interstate (I) 5, the extension of Crown Valley Parkway to SR 241, new connections between Ortega Highway, Antonio Parkway, Avery Parkway, and SR-73, new general purpose lanes on I-5, new managed lanes on I-5, or combinations of these preliminary alternatives. The formal scoping period occurred beginning November 8, 2019 and ended February 10, 2020. Public scoping meetings were held on November 20, 2019 and December 4, 2019 in Mission Viejo, California, and Dana Point, California, respectively. Following the formal scoping period, review of the public and agency input received, and preliminary alternatives evaluation work, Caltrans and F/ETCA mutually agreed to discontinue project development. Therefore, the FHWA is rescinding the NOI as there is no effort underway to advance the EIS. Comments and questions concerning this action should be directed to Caltrans at the email address provided above.

(Catalog of Federal Domestic Assistance Program Number 20.205, Highway Planning and Construction. The regulations implementing Executive Order 12372 regarding intergovernmental consultation on Federal programs and activities apply to this program.)

Issued on: May 26, 2020.
Rodney Whitfield,
Director, Financial Services, Federal Highway Administration, California Division.

[FR Doc. 2020-11775 Filed 5-29-20; 8:45 am]

BILLING CODE 4910-RY-P